DEPARTMENT OF THE TREASURY

Fiscal Service

Surety Companies Acceptable on Federal Bonds: Name Change and Change in State of Incorporation—Commercial Casualty Insurance Company of Georgia

AGENCY: Financial Management Service, Fiscal Service, Department of the Treasury.

ACTION: Notice.

SUMMARY: This is Supplement No. 20 to the Treasury Department Circular 570; 2001 Revision, published July 2, 2001, at 66 FR 35024.

FOR FURTHER INFORMATION CONTACT: Surety Bond Branch at (202) 874-6779.

SUPPLEMENTARY INFORMATION: Commercial Casualty Insurance Company of Georgia has formally changed its name to Commercial Casualty Insurance Company of North Carolina and has redomesticated from the state of Georgia to the state of North Carolina, effective December 21, 2001. The Company was last listed as an acceptable surety on Federal bonds at 66 FR 35033, July 2, 2001.

Federal bond-approving officers should annotate their reference copies of the Treasury Circular 570, 2001 revision, on page 35033 to reflect this change.

The Circular may be viewed and downloaded through the Internet at http://www.fms.treas.gov/c570/index.html. A hard copy may be purchased from the Government Printing Office (GPO), Subscription Service, Washington, DC, telephone (202) 512-1800. When ordering the Circular from GPO, use the following stock number: 769-004-04067-1.

Questions concerning this notice may be directed to the U.S. Department of the Treasury, Financial Management Service, Funds Management Division, Surety Bond Branch, 3700 East-West Highway, Room 6F07, Hyattsville, MD 20782.

Dated: April 11, 2002.
Wanda J. Rogers,
Director, Financial Accounting and Services Division, Financial Management Service.

[FR Doc. 02-9924 Filed 4-22-02; 8:45 am]

BILLING CODE 4810-35-M